DEPARTMENT OF HOMELAND SECURITY

Federal Emergency Management Agency

44 CFR Part 65

[Docket ID FEMA-2008-0020]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820.

SUPPLEMENTARY INFORMATION: The Federal Emergency Management Agency (FEMA) makes the final determinations listed below for the modified BFEs for each community listed. These modified BFEs have been published in newspapers of local circulation and ninety (90) days have elapsed since that publication. The Assistant Administrator for Mitigation has resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: St. Clair (FEMA Docket No: B-1036) | Town of Moody (08-04-4404P) | January 9, 2009; January 16, 2009; The Birmingham News | The Honorable Joe Lee, Mayor, Town of Moody, 670 Park Avenue, Moody, AL 35004 | May 18, 2009 | 010187
Arizona:
Maricopa (FEMA Docket No: B-1039) | Unincorporated areas of Maricopa County (09-09-0381P) | January 8, 2009; January 15, 2009; Arizona Business Gazette | The Honorable Andrew W. Kunasek, Chairman, Maricopa County Board of Supervisors, 301 West Jefferson Street, 10th Floor, Phoenix, AZ 85003 | May 15, 2009 | 040037
Maricopa (FEMA Docket No: B-1046) | City of Peoria (08-09-1474P) | January 22, 2009; January 29, 2009; Arizona Business Gazette | The Honorable Bob Barrett, Mayor, City of Peoria, City of Peoria Municipal Complex, 8401 West Monroe Street, Peoria, AZ 85345 | January 12, 2009 | 040050
Maricopa (FEMA Docket No: B-1039) | City of Tolleson (09-09-0381P) | January 8, 2009; January 15, 2009; Arizona Business Gazette | The Honorable Charles P. Hayes, Mayor, City of Tolleson, 9555 West Van Buren Street, Tolleson, AZ 85353 | May 15, 2009 | 040055
Pinal (FEMA Docket No: B-1036) | City of Apache Junction (08-09-1318P) | January 12, 2009; January 19, 2009; Apache Junction News | The Honorable Douglas Coleman, Mayor, City of Apache Junction, 300 East Superstition Boulevard, Apache Junction, AZ 85219 | May 19, 2009 | 040120
Pinal (FEMA Docket No: B-1044) | City of Casa Grande (08-09-1919P) | February 20, 2009; February 27, 2009; Casa Grande Dispatch | The Honorable Robert M. Jackson, Mayor, City of Casa Grande, 510 East Florence Boulevard, Casa Grande, AZ 85222 | February 10, 2009 | 040080
California:
Monterey (FEMA Docket No: B-1036) | City of Salinas (08-09-1361P) | January 12, 2009; January 19, 2009; The Salinas Californian | The Honorable Dennis Donohue, Mayor, City of Salinas, 200 Lincoln Avenue, Salinas, CA 93901 | May 19, 2009 | 060202
San Diego (FEMA Docket No: B-1039) | City of San Diego (08-09-1767P) | January 23, 2009; January 30, 2009; San Diego Transcript | The Honorable Jerry Sanders, Mayor, City of San Diego, 202 C Street, 11th Floor, San Diego, CA 92101 | June 2, 2009 | 060295
Colorado:
Boulder (FEMA Docket No: B-1042) | City of Boulder (08-08-0790P) | February 6, 2009; February 13, 2009; The Daily Camera | The Honorable Shaun McGrath, Mayor, City of Boulder, P.O. Box 791, Boulder, CO 80306 | January 28, 2009 | 080024
Boulder (FEMA Docket No: B-1042) | Unincorporated areas of Boulder County (08-08-0790P) | February 6, 2009; February 13, 2009; The Daily Camera | The Honorable Ben Pearlman, Chairman, Boulder County Board of Commissioners, P.O. Box 471, Boulder, CO 80306 | January 28, 2009 | 080023
Jefferson (FEMA Docket No: B-1036) | Unincorporated areas of Jefferson County (08-08-0667P) | January 7, 2009; January 14, 2009; High Timber Times | The Honorable Kathy Hartman, Chairman, Jefferson County Board of Commissioners, 100 Jefferson County Parkway, Golden, CO 80419 | May 14, 2009 | 080087
Florida:
Miami-Dade (FEMA Docket No: B-1042) | City of Miami (08-04-6874P) | February 9, 2009; February 16, 2009; Miami Herald | The Honorable Manual A. Diaz, Mayor, City of Miami, 3500 Pan American Drive, Miami, FL 33133 | January 30, 2009 | 120650
Pinellas (FEMA Docket No: B-1042) | City of Clearwater (08-04-6704P) | February 6, 2009; February 13, 2009; St. Petersburg Times | The Honorable Frank V. Hibbard, Mayor, City of Clearwater, P.O. Box 4748, Clearwater, FL 33758 | January 28, 2009 | 125096
Georgia:
Barrow (FEMA Docket No: B-1036) | Unincorporated areas of Barrow County (08-04-5850P) | January 7, 2009; January 14, 2009; The Barrow County News | Mr. Douglas H. Garrison, Chairman, Barrow County Board of Commissioners, 233 East Broad Street, Winder, GA 30680 | May 14, 2009 | 130497
Gwinnett (FEMA Docket No: B-1044) | Unincorporated areas of Gwinnett County (08-04-6361P) | January 2, 2009; January 9, 2009; Gwinnett Daily Post | The Honorable Charles E. Bannister, Chairman, Gwinnett County Board of Commissioners, 75 Langley Drive, Lawrenceville, GA 30045 | May 11, 2009 | 130322
Liberty (FEMA Docket No: B-1042) | City of Flemington (08-04-4998P) | January 25, 2009; February 1, 2009; Coastal Courier | The Honorable Sandra S. Martin, Mayor, City of Flemington, P.O. Box 46, Hinesville, GA 31310 | June 2, 2009 | 130124
Liberty (FEMA Docket No: B-1042) | City of Hinesville (08-04-4998P) | January 25, 2009; February 1, 2009; Coastal Courier | The Honorable James Thomas, Mayor, City of Hinesville, 115 East Martin Luther King Jr. Drive, Hinesville, GA 31313 | June 2, 2009 | 130125
Walton (FEMA Docket No: B-1052) | Unincorporated areas of Walton County (08-04-1976P) | April 9, 2008; April 16, 2008; Walton Tribune | The Honorable Kevin Little, Chairman, Walton County Board of Commissioners, 1269 Good Hope Road, Monroe, GA 30655 | August 15, 2008 | 130185
Kansas: Pottawatomie (FEMA Docket No: B-1036) | Unincorporated areas of Pottawatomie County (08-07-1722P) | January 8, 2009; January 15, 2009; The Wamego Times | The Honorable Corwin Seamans, Chairman, Pottawatomie County Commissioners, 207 North 1st Street, Westmoreland, KS 66549 | May 15, 2009 | 200621
Louisiana: Catahoula (FEMA Docket No: B-1052) | Unincorporated areas of Catahoula Parish (08-06-1686P) | September 10, 2008; September 17, 2008; Catahoula News Booster | The Honorable Jackie Paulk, President, Catahoula Parish, P.O. Box 258, Harrisonburg, LA 71340 | August 27, 2008 | 220047
Maryland: Allegany (FEMA Docket No: B-1052) | Unincorporated areas of Allegany County (08-03-1580P) | January 9, 2009; January 16, 2009; Cumberland Times News | The Honorable James J. Stakem, President, Allegany County Board of Commissioners, 701 Kelly Road, 4th Floor, Cumberland, MD 21502 | January 30, 2009 | 240001
Missouri: St. Charles (FEMA Docket No: B-1036) | Unincorporated areas of St. Charles County (09-07-0032P) | January 12, 2009; January 19, 2009; St. Charles County Business Record | The Honorable Steve Ehlmann, County Executive, St. Charles County, Administration Building, 201 North 2nd Street, St. Charles, MO 63301 | May 19, 2009 | 290315
North Carolina: Edgecombe (FEMA Docket No: B-1044) | Town of Tarboro (08-04-1283P) | February 3, 2009; February 10, 2009; The Daily Southerner | Mr. Samuel W. Noble, Jr., Manager, Town of Tarboro, P.O. Box 220, 500 Main Street, Tarboro, NC 27886 | January 27, 2009 | 370094
Pennsylvania: Lehigh (FEMA Docket No: B-1042) | Township of Upper Macungie (08-03-1442P) | February 6, 2009; February 13, 2009; The Morning Call | The Honorable Edward Earley, Chairman, Upper Macungie Township, 8330 Schantz Road, Breinigsville, PA 18031 | January 29, 2009 | 421044
Puerto Rico: Puerto Rico (FEMA Docket No: B-1036) | Commonwealth of Puerto Rico (08-02-1455P) | January 9, 2009; January 16, 2009; Puerto Rico Daily Sun | The Honorable Anibal Acevedo-Vila, Governor, Commonwealth of Puerto Rico, P.O. Box 82, La Fortaleza, San Juan, PR 00901 | May 18, 2009 | 720000
Rhode Island: Newport (FEMA Docket No: B-1044) | Town of Portsmouth (09-01-0279P) | February 20, 2009; February 27, 2009; Newport Daily News | The Honorable Dennis Canario, President, Portsmouth Town Council, 64 Birchwood Drive, Portsmouth, RI 02871 | February 9, 2009 | 445405
South Carolina:
Jasper (FEMA Docket No: B-1048) | Town of Hardeeville (07-04-6247P) | February 4, 2009; February 11, 2009; Jasper County Sun | The Honorable A. Brooks Willis, Mayor, Town of Hardeeville, 205 East Main Street, Hardeeville, SC 29927 | June 11, 2009 | 450113
Jasper (FEMA Docket No: B-1048) | Unincorporated areas of Jasper County (07-04-6247P) | February 4, 2009; February 11, 2009; Jasper County Sun | The Honorable George Hood, Chairman, Jasper County Council, P.O. Box 1149, Ridgeland, SC 29936 | June 11, 2009 | 450112
Tennessee:
Rutherford (FEMA Docket No: B-1036) | City of Murfreesboro (08-04-3762P) | January 11, 2009; January 18, 2009; The Murfreesboro Post | The Honorable Tommy Bragg, Mayor, City of Murfreesboro, 111 West Vine Street, Murfreesboro, TN 37130 | May 18, 2009 | 470168
Wilson (FEMA Docket No: B-1052) | City of Lebanon (08-04-4560P) | October 15, 2008; October 22, 2008; The Wilson Post | The Honorable Donald W. Fox, Mayor, City of Lebanon, 200 North Castle Heights Avenue, Suite 100, Lebanon, TN 37087 | February 19, 2009 | 470208
Wilson (FEMA Docket No: B-1052) | City of Mount Juliet (08-04-1366P) | April 11, 2008; April 18, 2008; The Wilson Post | The Honorable Linda C. Elam, Mayor, City of Mount Juliet, 2425 North Mount Juliet Road, Mount Juliet, TN 37122 | April 9, 2008 | 470290
Wilson (FEMA Docket No: B-1039) | City of Mount Juliet (08-04-4369P) | January 9, 2009; January 16, 2009; Lebanon Democrat | The Honorable Linda C. Elam, Mayor, City of Mount Juliet, P.O. Box 256, Mount Juliet, TN 37121 | May 18, 2009 | 470290
Texas:
Bexar (FEMA Docket No: B-1036) | City of San Antonio (08-06-0269P) | January 12, 2009; January 19, 2009; San Antonio Express News | The Honorable Phil Hardberger, Mayor, City of San Antonio, P.O. Box 839966, San Antonio, TX 78283 | May 19, 2009 | 480045
Collin (FEMA Docket No: B-1052) | City of Wylie (07-06-2304P) | June 18, 2008; June 25, 2008; Wylie News | The Honorable John Mondy, Mayor, City of Wylie, 2000 State Highway 78 North, Wylie, TX 75098 | October 23, 2008 | 480759
Dallas (FEMA Docket No: B-1036) | City of Garland (08-06-0905P) | January 5, 2009; January 12, 2009; Dallas Morning News | The Honorable Ronald E. Jones, Mayor, City of Garland, P. O. Box 469002, Garland, TX 75046 | May 12, 2009 | 485471
Dallas (FEMA Docket No: B-1052) | City of Sachse (07-06-2304P) | June 18, 2008; June 25, 2008; Daily Commercial Recorder | The Honorable Mike Felix, Mayor, City of Sachse, 5560 State Highway 78, Sachse, TX 75048 | October 23, 2008 | 480186
McLennan (FEMA Docket No: B-1036) | Unincorporated areas of McLennan County (09-06-0208P) | January 9, 2009; January 16, 2009; Waco Tribune-Herald | The Honorable Jim Lewis, McLennan County Judge, P.O. Box 1728, Waco, TX 76701 | May 18, 2009 | 480456
McLennan (FEMA Docket No: B-1036) | City of Waco (09-06-0208P) | January 9, 2009; January 16, 2009; Waco Tribune-Herald | The Honorable Virginia Dupuy, Mayor, City of Waco, P.O. Box 2570, Waco, TX 76702 | May 18, 2009 | 480461
Tarrant (FEMA Docket No: B-1036) | Unincorporated areas of Tarrant County (08-06-1292P) | January 9, 2009; January 16, 2009; Commercial Recorder | The Honorable B. Glen Whitley, Tarrant County Judge, 100 East Weatherford Street, Fort Worth, TX 76196 | May 18, 2009 | 480582
Washington: Spokane (FEMA Docket No: B-1044) | Unincorporated areas of Spokane County (08-10-0786P) | February 12, 2009; February 19, 2009; Spokesman Review | The Honorable Todd Mielke, Chairman, Spokane County Board of Commissioners, Spokane County Courthouse, Room 300, 1116 West Broadway Avenue, Spokane, WA 99260 | January 30, 2009 | 530174

(Catalog of Federal Domestic Assistance No. 97.022, “Flood Insurance.”)

Deborah S. Ingram,
Acting Deputy Assistant Administrator for Mitigation, Mitigation Directorate, Department of Homeland Security, Federal Emergency Management Agency.

[FR Doc. E9-28316 Filed 11-24-09; 8:45 am]

BILLING CODE 9110-12-P